DEPARTMENT OF LABOR

Employment and Training Administration

[TA-W-40,387]

STMicroelectronics, Inc. (ST) San Diego, CA; Notice of Termination of Investigation

Pursuant to section 221 of the Trade Act of 1974, an investigation was initiated on December 3, 2001, in response to a petition filed by a company official on behalf of workers at STMicroelectronics, Inc., San Diego, California.

The company official submitting the petition has requested that the petition be withdrawn. Consequently, further investigation in this case would serve no purpose, and the investigation has been terminated.

Signed in Washington, DC this 21st day of December, 2001.
Linda G. Poole,
Certifying Officer, Division of Trade Adjustment Assistance.

[FR Doc. 01-32208 Filed 12-31-01; 8:45 am]

BILLING CODE 4510-30-M